DEPARTMENT OF DEFENSE

48 CFR Parts 204, 207, 252, 253, and Appendix G to Chapter 2

Defense Federal Acquisition Regulation Supplement; Technical Amendments

AGENCY: Department of Defense (DoD).

ACTION: Final rule.

SUMMARY: DoD is making technical amendments to the Defense Federal Acquisition Regulation Supplement to update activity names and addresses, reference numbers, and terminology.

EFFECTIVE DATE: November 1, 2001.

FOR FURTHER INFORMATION CONTACT: Ms. Michele Peterson, Defense Acquisition Regulations Council, OUSD(AT&L)DP(DAR), IMD 3C132, 3062 Defense Pentagon, Washington, DC 20301-3062. Telephone (703) 602-0311; facsimile (703) 602-0350.

List of Subjects in 48 CFR Parts 204, 207, 252, and 253

Government procurement.

Michele P. Peterson,
Executive Editor, Defense Acquisition Regulations Council.

Therefore, 48 CFR Parts 204, 207, 252, 253, and Appendix G to Chapter 2 are amended as follows:

1. The authority citation for 48 CFR parts 204, 207, 252, 253, and Appendix G to subchapter I continues to read as follows:

Authority: 41 U.S.C. 421 and 48 CFR Chapter 1.

PART 204—ADMINISTRATIVE MATTERS

204.7303 [Amended]

2. Section 204.7303 is amended in paragraph (a)(2), in the last sentence, by removing http://www.ccr2000.com and adding in its place http://www.ccr.gov.

PART 207—ACQUISITION PLANNING

207.471 [Amended]

3. Section 207.471 is amended in paragraph (b), in the last sentence, by removing “070308” and adding in its place “070207”.

PART 252—SOLICITATION PROVISIONS AND CONTRACT CLAUSES

252.204-7004 [Amended]

4. Section 252.204-7004 is amended as follows:

a. By revising the clause date to read “(NOV 2001)”; and

b. In paragraph (d) by removing http://www.ccr2000.com and adding in its place http://www.ccr.gov.

252.204-7005 [Amended]

5. Section 252.204-7005 is amended as follows:

a. By revising the clause date to read “(NOV 2001)”; and

b. In paragraph (a), in the first sentence, by removing “Special” the second time it appears and adding in its place “Sensitive”.

PART 253—FORMS

253.204-70 [Amended]

6. Section 253.204-70 is amended in paragraph (e)(4), in the third sentence, by removing “http” and adding in its place “https”.

Appendix G—Activity Address Numbers

7. Appendix G to Chapter 2 is amended in Part 3 as follows:

a. In the entry “N00189” by adding, after “H3”, “, J3”; and

b. By adding, in alpha-numerical order, five new entries to read as follows:

Part 3—Navy Activity Address Numbers

* * * * *

N49400, 3G Officer-in-Charge, Naval Regional Contracting Center, Detachment Bahrain, PSC 451, Box NRCC, FPO AE 09834-2800

N49420, 3R Officer-in-Charge, Naval Regional Contracting Center, Detachment Dubai, PSC 451, Box 531, FPO AE 09834-2800

* * * * *

N63273, 4S Commanding Officer, Combat Direction Systems Activity, Dahlgren Division, Naval Surface Warfare Center, 1922 Regulus Avenue, Virginia Beach, VA 23461-2097

* * * * *

N68558, 3H Officer-in-Charge, Naval Regional Contracting Center, Detachment London, PSC 821, Box 45, FPO AE 09421-1300

* * * * *

N69250, NSF Director, SPAWAR Information Technology Center,2251 Lakeshore Drive, New Orleans, LA 70145-0001

* * * * *

[FR Doc. 01-27369 Filed 10-31-01; 8:45 am]

BILLING CODE 5000-04-U